DEPARTMENT OF DEFENSE

48 CFR Parts 206, 207, 217, 223, 237, 242, 245, and 247 and Appendix G to Chapter 2

Defense Federal Acquisition Regulation Supplement; Technical Amendments

AGENCY: Department of Defense (DoD).

ACTION: Final rule.

SUMMARY: DoD is making technical amendments to the Defense Federal Acquisition Regulation Supplement to update activity names and addresses and references to DoD publications.

EFFECTIVE DATE: October 1, 2002.

FOR FURTHER INFORMATION CONTACT: Ms. Michele Peterson, Defense Acquisition Regulations Council, OUSD(AT&L)DP(DAR), IMD 3C132, 3062 Defense Pentagon, Washington, DC 20301-3062. Telephone (703) 602-0311; facsimile (703) 602-0350.

List of Subjects in 48 CFR Parts 206, 207, 217, 223, 237, 242, 245, and 247

Government procurement.

Michele P. Peterson,
Executive Editor, Defense Acquisition Regulations Council.

Therefore, 48 CFR Parts 206, 207, 217, 223, 237, 242, 245, and 247 and Appendix G to Chapter 2 are amended as follows:

1. The authority citation for 48 CFR Parts 206, 207, 217, 223, 237, 242, 245, and 247 and Appendix G to subchapter I continues to read as follows:

Authority: 41 U.S.C. 421 and 48 CFR Chapter 1.

PART 206—COMPETITION REQUIREMENTS

206.302-2 [Amended]

2. Section 206.302-2 is amended in paragraph (b)(iv) by removing “DoDD 4410.6, Uniform Material Movement and Issue Priority System” and adding in its place “DoD 4140.1-R, DoD Materiel Management Regulation”.

PART 207—ACQUISITION PLANNING

207.103 [Amended]

3. Section 207.103 is amended in paragraph (h) introductory text, paragraph (h)(i)(A), twice in paragraph (h)(i)(B), paragraph (h)(i)(C), paragraph (h)(ii) introductory text, and paragraph (h)(ii)(B) in the second sentence, by removing “SCMA” and adding in its place “SMCA”.

207.105 [Amended]

4. Section 207.105 is amended as follows:

a. In the introductory text, in the first sentence, by removing the parenthetical “(c)” and adding in its place “(d)'; and

b. In paragraph (b)(19)(C), by removing “DoDD 4210.15, Hazardous Material Pollution Prevention” and adding in its place “DoD Instruction 4715.4, Pollution Prevention”.

PART 217—SPECIAL CONTRACTING METHODS

217.7600 [Amended]

5. Section 217.7600 is amended in the second sentence by removing “DoDD 4140.40, Provisioning of End Items of Material” and adding in its place “DoD 4140.1-R, DoD Materiel Management Regulation, Chapter 1”.

PART 223—ENVIRONMENT, CONSERVATION, OCCUPATIONAL SAFETY, AND DRUG-FREE WORKPLACE

223.7100 [Amended]

6. Section 223.7100 is amended in the second sentence by removing “DoD Directive 6050.8, Storage and Disposal of Non-DoD-Owned Hazardous or Toxic Materials on DoD Installations” and adding in its place “DoD Instruction 4715.6, Environmental Compliance”.

223.7102 [Amended]

7. Section 223.7102 is amended in paragraph (b) by removing “DoD Directive 6050.8” and adding in its place “DoD Instruction 4715.6”.

PART 237—SERVICE CONTRACTING

237.104 [Amended]

8. Section 237.104 is amended in paragraph (b)(ii)(C)(1), in the first sentence, by removing “Contracting Authority for Direct” and adding in its place “Contracts for”.

PART 242—CONTRACT ADMINISTRATION AND AUDIT SERVICES

242.1105 [Amended]

9. Section 242.1105 is amended in paragraph (1)(i) by removing “DoD Directive 4410.6, Uniform Materiel Movement and Issue Priority System” and adding in its place “DoD 4140.1-R, DoD Materiel Management Regulation”.

PART 245—GOVERNMENT PROPERTY

245.403 [Amended]

10. Section 245.403 is amended in paragraph (1), in the second sentence, by removing “Products and Technology” and adding in its place “Items'; and by removing “combat” and adding in its place “military”.

245.609 [Amended]

11. Section 245.609 is amended in the second sentence by removing “Reutilization and Disposal” and adding in its place “Materiel Disposition”.

PART 247—TRANSPORTATION

247.305-10 [Amended]

12. Section 247.305-10 is amended in paragraph (b)(i)(A)(3) by removing “DoD 4500.32-R, Military Standard Transportation and Movement Procedures (MILSTAMP)” and adding in its place “DoD 4500.9-R, Defense Transportation Regulation”.

247.371 [Amended]

13. Section 247.371 is amended by removing “DoD Regulation 4500.32-R, MILSTAMP” and adding in its place “DoD 4500.9-R, Defense Transportation Regulation”.

Appendix G—Activity Address Numbers

14. Appendix G to Chapter 2 is amended in Part 6 by adding, after entry SP0999, entries SPE100 through SPM999 to read as follows:

PART 6—DEFENSE LOGISTICS AGENCY ACTIVITY ADDRESS NUMBERS

* * * * *

Appendix G—Activity Address Numbers

SPE100, TW Defense Supply Center Philadelphia, Directorate of Clothing & Textiles, 700 Robbins Avenue, Philadelphia, PA, 19111-5096

SPE103, W7 Defense Supply Center Philadelphia, Installation Support, 700 Robbins Avenue, Philadelphia, PA 19111-5096

SPE200, TX Defense Supply Center Philadelphia, Directorate of Medical Materiel, 700 Robbins Avenue, Philadelphia, PA 19111-5096

SPE300, UE Defense Supply Center Philadelphia, Directorate of Subsistence, 700 Robbins Avenue, Philadelphia, PA 19111-5096

SPE302, W6 Defense Supply Center Philadelphia, DSCP-Pacific, 2155 Mariner Square Loop, Alameda, CA 94501-1022

SPE303, U6 Defense Supply Center Philadelphia, DSCP-Europe, APO AE 09052-5000

SPE400, TY, XK, Z1, Z3, Z6, Y8, XH Defense Supply Center Richmond, Business Operations, 8000 Jefferson Davis Highway, Richmond, VA 23297-5770

SPE410, XH Defense Supply Center Richmond, Supplier Operations—Acquisition Mgmt Div, 8000 Jefferson Davis Highway, Richmond, VA 23297-5720

SPE411, TY Defense Supply Center Richmond, Proc Br (ESOC), Customer Asst Ctr, 8000 Jefferson Davis Highway, Richmond, VA 23297-5871

SPE413, TY Defense Supply Center Richmond, Spec Purchase Br, Prod Ctr Spt Div, 8000 Jefferson Davis Highway, Richmond, VA 23297-5864

SPE414, TY Defense Supply Center Richmond, SASPS Phase I Br, Prod Ctr Spt Div, 8000 Jefferson Davis Highway, Richmond, VA 23297-5864

SPE415, TY Defense Supply Center Richmond, Supplier Operations—Hamilton Sunstrand, 8000 Jefferson Davis Highway, Richmond, VA 23297-5728

SPE416, TY Defense Supply Center Richmond, Supplier Operations—Boeing, 8000 Jefferson Davis Highway, Richmond, VA 23297-5729

SPE417, TY Defense Supply Center Richmond, Supplier Operations—Honeywell, 8000 Jefferson Davis Highway, Richmond, VA 23297-5730

SPE418, TY Defense Supply Center Richmond, Supplier Operations—Lockheed Martin, 8000 Jefferson Davis Highway, Richmond, VA 23297-5731

SPE419, TY Defense Supply Center Richmond, Supplier Operations—BAE, 8000 Jefferson Davis Highway, Richmond, VA 23297-5732

SPE420, TY Defense Supply Center Richmond, Supplier Operations—General Electric, 8000 Jefferson Davis Highway, Richmond, VA 23297-5733

SPE430, TY Defense Supply Center Richmond, Procurement Branch, Product Center 5, 8000 Jefferson Davis Highway, Richmond, VA 23297-5813

SPE440, TY Defense Supply Center Richmond, Procurement Branch, Product Center 7, 8000 Jefferson Davis Highway, Richmond, VA 23297-5834

SPE441, TY Defense Supply Center Richmond, Procurement Branch, Product Center 6, 8000 Jefferson Davis Highway, Richmond, VA 23297-5822

SPE450, TY Defense Supply Center Richmond, Procurement Branch, Product Center 4, 8000 Jefferson Davis Highway, Richmond, VA 23297-5800

SPE451, TY Defense Supply Center Richmond, Procurement Branch, Product Center 2, 8000 Jefferson Davis Highway, Richmond, VA 23297-5787

SPE460, TY Defense Supply Center Richmond, Procurement Branch, Product Center 1, 8000 Jefferson Davis Highway, Richmond, VA 23297-5772

SPE461, TY Defense Supply Center Richmond, Special Purchase Branch (SPUR), 8000 Jefferson Davis Highway, Richmond, VA 23297-5864

SPE470, TY Defense Supply Center Richmond, Procurement Branch, Product Center 10, 8000 Jefferson Davis Highway, Richmond, VA 23297-5352

SPE475, TY Defense Supply Center Richmond, Procurement Branch, Product Center 11, 8000 Jefferson Davis Highway, Richmond, VA 23297-5361

SPE480, TY Defense Supply Center Richmond, Procurement Branch, Product Center 3, 8000 Jefferson Davis Highway, Richmond, VA 23297-5877

SPE490, TY Defense Supply Center Richmond, Procurement Branch, Product Center 8, 8000 Jefferson Davis Highway, Richmond, VA 23297-5846

SPE499 Defense Supply Center Richmond, Special Purchase Branch, Project Orders, 8000 Jefferson Davis Highway, Richmond, VA 23297-5864

SPE500, TZ, WU Defense Supply Center Philadelphia, 700 Robbins Avenue, Philadelphia, PA 19111-5096

SPE510 Defense Supply Center Philadelphia, 700 Robbins Avenue, Philadelphia, PA 19111-5096

SPE520 Defense Supply Center Philadelphia, Product Verification Testing Acquisition, 700 Robbins Avenue, Philadelphia, PA 19111-5096

SPE540 Defense Supply Center Philadelphia, 700 Robbins Avenue, Philadelphia, PA 19111-5096

SPE560 Defense Supply Center Philadelphia, 700 Robbins Avenue, Philadelphia, PA 19111-5096

SPE580 Defense Supply Center Philadelphia, Special Programs, 700 Robbins Avenue, Philadelphia, PA 19111-5096

SPE599 Defense Supply Center Philadelphia, 700 Robbins Avenue, Philadelphia, PA 19111-5096

SPE700, UB, UZ, U3 Defense Supply Center Columbus, PO Box 3990, Columbus, OH 43216-3990

SPE701 Defense Supply Center Columbus, ATTN: DSCC-OT, Building 20, Fourth Floor, Columbus, OH 43216-5000

SPE710, YL Defense Supply Center Columbus, Base Contracting, PO Box 16704, Columbus, OH 43216-5010

SPE720, YM Defense Supply Center Columbus, PO Box 16704, Columbus, OH 43216-5010

SPE730, WZ Defense Supply Center Columbus, PO Box 16704, Columbus, OH 43216-5010

SPE740, XJ Defense Supply Center Columbus, Aerospace Solicitations/Awards, PO Box 3990, Columbus, OH 43216-5000

SPE749 Defense Supply Center Columbus, Aerospace/Public Manufacturing, PO Box 3990, Columbus, OH 43216-3990

SPE750, UB Defense Supply Center Columbus, Land Solicitations/Awards, PO Box 16704, Columbus, OH 43216-5010

SPE759 Defense Supply Center Columbus, Land Public Manufacturing, PO Box 16704, Columbus, OH 43216-5010

SPE760, UB Defense Supply Center Columbus, Maritime Solicitations/Awards, PO Box 16704, Columbus, OH 43216-5010

SPE769 Defense Supply Center Columbus, Maritime Public Manufacturing, PO Box 16704, Columbus, OH 43216-5010

SPE770, UB Defense Supply Center Columbus, PO Box 16704, Columbus, OH 43216-5010

SPE779 Defense Supply Center Columbus, Public Manufacturing, PO Box 16704, Columbus, OH 43216-5010

SPE780 Defense Supply Center Columbus, Government Furnished Property Account, ATTN: DSCC-PAPB GFP, Building 20 A2N, 3990 East Broad Street, Columbus, OH 43216-5000

SPE799 Defense Supply Center Columbus-FCIM, PO Box 3990, Columbus, OH 43216-5000

SPE900, UD Defense Supply Center Columbus, Electronics, PO Box 16704, Columbus, OH 43216-5010

SPE905 Defense Supply Center Columbus, PO Box 16704, Columbus, OH 43216-5010

SPE910, U7 Defense Supply Center Columbus, PO Box 16704, Columbus, OH 43216-5010

SPE920, W4 Defense Supply Center Columbus, Electro Mechanical, PO Box 16704, Columbus, OH 43216-5010

SPE930 Defense Supply Center Columbus, Switches, PO Box 16704, Columbus, OH 43216-5000

SPE935 Defense Supply Center Columbus, PO Box 16704, Columbus, OH 43216-5000

SPE960 Defense Supply Center Columbus, Active Devices, PO Box 16704, Columbus, OH 43216-5000

SPE970 Defense Supply Center Columbus, PO Box 16704, Columbus, OH 43216-5000

SPE999 Defense Supply Center Columbus-FCIM, PO Box 16704, Columbus, OH 43216-5000

SPM100, TW Defense Supply Center Philadelphia, Directorate of Clothing & Textiles, 700 Robbins Avenue, Philadelphia, PA 19111-5096

SPM103, W7 Defense Supply Center Philadelphia, Installation Support, 700 Robbins Avenue, Philadelphia, PA 19111-5096

SPM200, TX Defense Supply Center Philadelphia, Directorate of Medical Materiel, 700 Robbins Avenue, Philadelphia, PA 19111-5096

SPM300, UE Defense Supply Center Philadelphia, Directorate of Subsistence, 700 Robbins Avenue, Philadelphia, PA 19111-5096

SPM302, W6 Defense Supply Center Philadelphia, DSCP-Pacific, 2155 Mariner Square Loop, Alameda, CA 94501-1022

SPM303, U6 Defense Supply Center Philadelphia, DSCP-Europe, APO AE 09052-5000

SPM400, TY, XK, Z1, Z3, Z6, Y8, XH Defense Supply Center Richmond, Business Operations, 8000 Jefferson Davis Highway, Richmond, VA 23297-5770

SPM410, XH Defense Supply Center Richmond, Supplier Operations—Acquisition Mgmt Div, 8000 Jefferson Davis Highway, Richmond, VA 23297-5720

SPM411, TY Defense Supply Center Richmond, Proc Br (ESOC), Customer Asst Ctr, 8000 Jefferson Davis Highway, Richmond, VA 23297-5871

SPM413, TY Defense Supply Center Richmond, Spec Purchase Br, Prod Ctr Spt Div, 8000 Jefferson Davis Highway, Richmond, VA 23297-5864

SPM414, TY Defense Supply Center Richmond, SASPS Phase I Br, Prod Ctr Spt Div, 8000 Jefferson Davis Highway, Richmond, VA 23297-5864

SPM415, TY Defense Supply Center Richmond, Supplier Operations “ Hamilton Sunstrand, 8000 Jefferson Davis Highway, Richmond, VA 23297-5728

SPM416, TY Defense Supply Center Richmond, Supplier Operations—Boeing, 8000 Jefferson Davis Highway, Richmond, VA 23297-5729

SPM417, TY Defense Supply Center Richmond, Supplier Operations—Honeywell, 8000 Jefferson Davis Highway, Richmond, VA 23297-5730

SPM418, TY Defense Supply Center Richmond, Supplier Operations—Lockheed Martin, 8000 Jefferson Davis Highway, Richmond, VA 23297-5731

SPM419, TY Defense Supply Center Richmond, Supplier Operations—BAE, 8000 Jefferson Davis Highway, Richmond, VA 23297-5732

SPM420, TY Defense Supply Center Richmond, Supplier Operations—General Electric, 8000 Jefferson Davis Highway, Richmond, VA 23297-5733

SPM430, TY Defense Supply Center Richmond, Procurement Branch, Product Center 5, 8000 Jefferson Davis Highway, Richmond, VA 23297-5813

SPM440, TY Defense Supply Center Richmond, Procurement Branch, Product Center 7, 8000 Jefferson Davis Highway, Richmond, VA 23297-5834

SPM441, TY Defense Supply Center Richmond, Procurement Branch, Product Center 6, 8000 Jefferson Davis Highway, Richmond, VA 23297-5822

SPM450, TY Defense Supply Center Richmond, Procurement Branch, Product Center 4, 8000 Jefferson Davis Highway, Richmond, VA 23297-5800

SPM451, TY Defense Supply Center Richmond, Procurement Branch, Product Center 2, 8000 Jefferson Davis Highway, Richmond, VA 23297-5787

SPM460, TY Defense Supply Center Richmond, Procurement Branch, Product Center 1, 8000 Jefferson Davis Highway, Richmond, VA 23297-5772

SPM461, TY Defense Supply Center Richmond, Special Purchase Branch (SPUR), 8000 Jefferson Davis Highway, Richmond, VA 23297-5864

SPM470, TY Defense Supply Center Richmond, Procurement Branch, Product Center 10, 8000 Jefferson Davis Highway, Richmond, VA 23297-5352

SPM475, TY Defense Supply Center Richmond, Procurement Branch, Product Center 11, 8000 Jefferson Davis Highway, Richmond, VA 23297-5361

SPM480, TY Defense Supply Center Richmond, Procurement Branch, Product Center 3, 8000 Jefferson Davis Highway, Richmond, VA 23297-5877

SPM490, TY Defense Supply Center Richmond, Procurement Branch, Product Center 8, 8000 Jefferson Davis Highway, Richmond, VA 23297-5846

SPM499 Defense Supply Center Richmond, Special Purchase Branch, Project Orders, 8000 Jefferson Davis Highway, Richmond, VA 23297-5864

SPM500 TZ, WU Defense Supply Center Philadelphia, 700 Robbins Avenue, Philadelphia, PA 19111-5096

SPM510 Defense Supply Center Philadelphia, 700 Robbins Avenue, Philadelphia, PA 19111-5096

SPM520 Defense Supply Center Philadelphia, Product Verification Testing Acquisition, 700 Robbins Avenue, Philadelphia, PA 19111-5096

SPM540 Defense Supply Center Philadelphia, 700 Robbins Avenue, Philadelphia, PA 19111-5096

SPM560 Defense Supply Center Philadelphia, 700 Robbins Avenue, Philadelphia, PA 19111-5096

SPM580 Defense Supply Center Philadelphia, Special Programs, 700 Robbins Avenue, Philadelphia, PA 19111-5096

SPM599 Defense Supply Center Philadelphia, 700 Robbins Avenue, Philadelphia, PA 19111-5096

SPM700 UB, UZ, U3 Defense Supply Center Columbus, PO Box 3990, Columbus, OH 43216-3990

SPM701 Defense Supply Center Columbus, Attn: DSCC-OT, Building 20, Fourth Floor, Columbus, OH 43216-5000

SPM710, YL Defense Supply Center Columbus, Base Contracting, PO Box 16704, Columbus, OH 43216-5010

SPM720, YM Defense Supply Center Columbus, PO Box 16704, Columbus, OH 43216-5010

SPM730, WZ Defense Supply Center Columbus, PO Box 16704, Columbus, OH 43216-5010

SPM740, XJ Defense Supply Center Columbus, Aerospace Solicitations/Awards, PO Box 3990, Columbus, OH 43216-5000

SPM749 Defense Supply Center Columbus, Aerospace/Public Manufacturing, PO Box 3990, Columbus, OH 43216-3990

SPM750, UB Defense Supply Center Columbus, Land Solicitations/Awards, PO Box 16704, Columbus, OH 43216-5010

SPM759 Defense Supply Center Columbus, Land Public Manufacturing, PO Box 16704, Columbus, OH 43216-5010

SPM760, UB Defense Supply Center Columbus, Maritime Solicitations/Awards, PO Box 16704, Columbus, OH 43216-5010

SPM769 Defense Supply Center Columbus, Maritime Public Manufacturing, PO Box 16704, Columbus, OH 43216-5010

SPM770, UB Defense Supply Center Columbus, PO Box 16704, Columbus, OH 43216-5010

SPM779 Defense Supply Center Columbus, Public Manufacturing, PO Box 16704, Columbus, OH 43216-5010

SPM780 Defense Supply Center Columbus, Government Furnished Property Account, Attn: DSCC-PAPB GFP, Building 20 A2N, 3990 East Broad Street, Columbus, OH 43216-5000

SPM799 Defense Supply Center Columbus-FCIM, PO Box 3990, Columbus, OH 43216-5000

SPM900, UD Defense Supply Center Columbus, Electronics, PO Box 16704, Columbus, OH 43216-5010

SPM905 Defense Supply Center Columbus, PO Box 16704, Columbus, OH 43216-5010

SPM910, U7 Defense Supply Center Columbus, PO Box 16704, Columbus, OH 43216-5010

SPM920, W4 Defense Supply Center Columbus, Electro Mechanical, PO Box 16704, Columbus, OH 43216-5010

SPM930 Defense Supply Center Columbus, Switches, PO Box 16704, Columbus, OH 43216-5000

SPM935 Defense Supply Center Columbus, PO Box 16704, Columbus, OH 43216-5000

SPM960 Defense Supply Center Columbus, Active Devices, PO Box 16704, Columbus, OH 43216-5000

SPM970 Defense Supply Center Columbus, PO Box 16704, Columbus, OH 43216-5000

SPM999 Defense Supply Center Columbus-FCIM, PO Box 16704, Columbus, OH 43216-5000

* * * * *

[FR Doc. 02-24717 Filed 9-30-02; 8:45 am]

BILLING CODE 5001-08-P